DEPARTMENT OF AGRICULTURE

Natural Resources Conservation Service

Notice of Availability of the Record of Decisions (ROD) for Federal Highway Administration (FHWA) In Cooperation With the Mississippi Department of Transportation (MDOT) Project FHWA-TN-EIS-04-01-F

AGENCY: Natural Resources Conservation Service (NRCS), USDA.

ACTION: Notice of availability of the Record of Decision (ROD) for the Federal Highway Administration (FHWA) in cooperation with the Mississippi Department of Transportation (MDOT) Project FHWA-TN-EIS-04-01-F.

SUMMARY: This notice presents the Record of Decision (ROD) regarding the Natural Resources Conservation Service (NRCS) decided to subordinate its rights, acquired under the Wetland Reserve Program (WRP), to allow the Federal Highway Administration (FHWA) in cooperation with the Mississippi Department of Transportation (MDOT) to construct a limited access expressway to cross NRCS held conservation easements associated with the Federal Highway Administration (Interstate 69, Section of Independent Utility #9 Project in Desoto County, Mississippi). The project will affect approximately one NRCS held WRP easement in Mississippi. The Federal Highway Administration (FHWA) approved the re-evaluation environmental impact statement (EIS) to fulfill requirements of the National Environmental Policy Act (NEPA). FHWA issued the order of issuing certificate on June 17, 2011.

ADDRESSES: Copies of the ROD and EIS are available upon request from the Natural Resources Conservation Service, Suite 1321, Federal Building, 100 West Capitol Street, Jackson, MS 39269.

FOR FURTHER INFORMATION CONTACT: Decunda Duke-Bozeman, State WRP Coordinator, Natural Resources Conservation Service, Suite 1321, Federal Building, 100 West Capitol Street, Jackson, MS 39269, or by telephone at (601) 965-4139, extension 120.

SUPPLEMENTARY INFORMATION: The alternatives analysis is the final EIS and found no reasonable route alternatives that would be environmentally preferable to the proposed route. The final EIS determined that the proposed Project FHWA-TN-EIS-04-01-F as modified by the recommended mitigation measures is the preferred alternative. Potential impacts to wetlands will be avoided, minimized and mitigated through Federal Highway Administration (FHWA) in cooperation with the Mississippi Department of Transportation (MDOT) of numerous route variations, implementation of agency recommendations and requirements, and development of site-specific plans.

Al Garner,
Acting State Conservationist.

[FR Doc. 2012-3313 Filed 2-13-12; 8:45 am]

BILLING CODE P